DEPARTMENT OF AGRICULTURE

Agricultural Marketing Service

[No. LS-05-05]

Lamb Promotion, Research, and Information Program

AGENCY: Agricultural Marketing Service, USDA.

ACTION: Notice.

SUMMARY: The Agricultural Marketing Service (AMS) is announcing that lamb producers, feeders, seedstock producers, and first handlers of lamb and lamb products voting in a national referendum from January 31, 2005, through February 28, 2005, have approved the continuation of the Lamb Promotion, Research, and Information Order (Order).

FOR FURTHER INFORMATION CONTACT: Kenneth R. Payne, Chief; Marketing Programs Branch, Livestock and Seed Program; Agricultural Marketing Service (AMS), USDA, Room 2638-S; STOP 0251; 1400 Independence Avenue, SW.; Washington, DC 20250-0251, telephone number 202/720-1115, fax number 202/720-1125, or by e-mail at: Kenneth.Payne@usda.gov.

SUPPLEMENTARY INFORMATION: Pursuant to the Commodity Promotion, Research, and Information Act of 1996 (Act) (7 U.S.C. 7411-7425), the Department of Agriculture conducted a referendum from January 31, 2005, through February 28, 2005, among eligible lamb producers, feeders, seedstock producers, and first handlers of lamb and lamb products to determine if the Order would continue to be effective. A final rule was published in the December 27, 2004, Federal Register (69 FR 22570) outlining the procedures for conducting the referendum.

Of the 3,490 valid ballots cast, 2,807 (80 percent) favored and 683 (20 percent) opposed the continuation of the Order. Additionally, of those persons who cast valid ballots in the referendum, those who favored the Order accounted for 84 percent of the total production voted, and those opposed account for 16 percent of the total production voted. For the program to continue, it must have been approved by at least a majority of those persons voting for approval who were engaged in the production, feeding, or slaughter of lambs during calendar year 2004 and who also represent a majority of the volume of lambs produced, fed, or slaughtered.

Therefore, based on the referendum results, the Secretary of Agriculture has determined that the required majority of eligible voters who voted in the nationwide referendum from January 31, 2005, through February 29, 2005, voted to continue the Order. As a result, the Lamb Checkoff Program will continue to be funded by a mandatory assessment on producers, seedstock producers (breeders), feeders, and exporters at the rate of one-half cent ($.005) per pound when live ovine animals are sold. The first handler, primarily packers, will pay an additional $.30 cents per head on ovine animals purchased for slaughter. Importers are not assessed.

In accordance with Paperwork Reduction Act (44 U.S.C. Chapter 35), the information collection requirements have been approved under OMB number 0581-0227.

State Referendum Results
[January 31, 2005, through February 28, 2005]
State | Votes: Yes | Votes: No | Volume voted: Yes | Volume voted: No
Alabama | 4 | 1 | 1,726 | 28
California | 121 | 13 | 938,954 | 15,290
Colorado | 85 | 21 | 1,145,615 | 32,640
Idaho | 90 | 15 | 165,453 | 47,423
Illinois | 77 | 27 | 10,097 | 6,736
Indiana | 79 | 14 | 9,422 | 1,360
Iowa | 161 | 52 | 456,999 | 53,520
Kansas | 45 | 22 | 11,155 | 21,163
Kentucky | 44 | 7 | 5,257 | 577
Maryland | 9 | 3 | 1,090 | 18,747
Massachusetts | 6 | 2 | 324 | 4,110
Michigan | 126 | 10 | 28,562 | 3,570
Minnesota | 161 | 40 | 65,332 | 15,325
Missouri | 65 | 12 | 10,090 | 2,824
Montana | 303 | 96 | 208,964 | 54,740
N. Carolina | 27 | 1 | 2,429 | 195
N. Dakota | 59 | 19 | 29,384 | 17,940
Nebraska | 42 | 23 | 19,520 | 9,312
Nevada | 8 | 5 | 20,977 | 5,187
New Hampshire | 11 | 1 | 583 | 300
New Mexico | 38 | 5 | 70,898 | 8,220
New York | 70 | 11 | 12,258 | 2,793
Ohio | 158 | 43 | 28,952 | 11,213
Oklahoma | 18 | 11 | 2,335 | 9,226
Oregon | 68 | 17 | 44,483 | 13,227
Pennsylvania | 54 | 15 | 8,408 | 22,093
S. Dakota | 148 | 91 | 85,167 | 132,898
Tennessee | 54 | 2 | 3,137 | 125
Texas | 217 | 26 | 270,713 | 219,081
Utah | 73 | 7 | 136,917 | 8,055
Vermont | 17 | 1 | 2,406 | 350
Virginia | 48 | 9 | 5,389 | 1,093
West Virginia | 70 | 5 | 10,095 | 544
Wisconsin | 58 | 16 | 11,903 | 5,325
Wyoming | 99 | 39 | 236,568 | 54,721
Alaska, Arizona, Arkansas, Connecticut, Delaware, Florida, Georgia, Hawaii, Louisiana, Maine, Mississippi, New Jersey, Puerto Rico, Rhode Island, South Carolina, and Washington ¹ | 94 | 1 | 160,352 | 20
National Totals | 2,807 | 683 | 4,221,914 | 799,971
¹ To ensure the confidentiality of the voting process, the results of States in which there were not at least 3 votes in total with a minimum of one vote in each category are combined for the purpose of this report.

Authority: 7 U.S.C. 7411-7425.

Dated: April 28, 2005.
Kenneth C. Clayton,
Acting Administrator, Agricultural Marketing Service.

[FR Doc. 05-8829 Filed 5-3-05; 8:45 am]

BILLING CODE 3410-02-P